DEPARTMENT OF HEALTH AND HUMAN SERVICES

Centers for Disease Control and Prevention

[30Day-14-13ZC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Case Studies to Explore Interventions that Support, Build, and Provide Legacy Awareness for Young Breast Cancer Survivors—New—National Center for Chronic Disease Prevention and Health Promotion (NCCDPHP), Centers for Disease Control and Prevention (CDC).

Background and Brief Description

Young breast cancer survivors (YBCS, defined as women diagnosed with breast cancer under 45 years old) may have a more difficult time coping with breast cancer treatment and aftercare when compared to older breast cancer survivors. As a result of the Young Women's Breast Health Education and Awareness Requires Learning Young (EARLY) Act, CDC established Funding Opportunity Announcement, DP11-1111, Developing Support and Educational Awareness for Young (< 45 years of age) Breast Cancer Survivors in the United States. Subsequently, CDC awarded a three-year cooperative agreement to seven organizations that demonstrated a capacity to (1) reach YBCS, health care providers, and caregivers/families, (2) implement interventions that seek to provide support services, and (3) develop educational communication and awareness resources to support YBCS.

Other establishments within the U.S., such as local and national not-for-profit organizations and academic institutions, implement similar YBCS-focused interventions without funding from CDC's DP11-1111 cooperative agreement. Although these entities are not funded through CDC, they plan, develop, and employ similar tools, strategies, and interventions to reach or benefit these targeted young cancer-survivor populations.

CDC proposes to conduct exploratory case studies of organizations that provide support services and/or educational resources to YBCS, health care providers, and/or caregivers/families. Each selected organization will serve as a unique case and the unit of analysis. Information will be collected from up to 12 organizations: seven case studies will be conducted with organizations that receive funding through CDC's DP11-1111 cooperative agreement, and up to five case studies will be conducted with other organizations that are implementing similar YBCS-focused activities and interventions but do not receive funding under DP11-1111.

Case studies are intended to serve as an exploration of implementation activities, as well as to provide the context for implementation. Information will be collected during a single site visit to each selected organization to conduct on-site observations and in-depth interviews (IDI) with each organization's key informants, such as Principal Investigators, Program Managers, Program Staff, and Program Partners. IDIs will last 1-2 hours each. Case study findings will help CDC to identify areas in which CDC can build upon existing and emerging efforts to provide support services and educational resources to YBCS, highlight barriers and facilitating factors to implementing interventions targeting YBCS, determine the added value of providing the DP11-1111 cooperative agreement (e.g., funding, technical assistance) to various entities, identify lessons learned that can be applied to future implementation of YBCS interventions, and better understand the sustainability of YBCS interventions following/in the absence of CDC funding.

Case study selection is based on a purposeful selection of CDC-funded and non-CDC funded organizations that support YBCS populations through educational or service programs. Potential organizations for this project may be funded through state, local, or Tribal government, or the private sector. Information will be collected approximately two years after initiation of CDC's cooperative agreement. OMB approval is requested for one year.

There are no costs to respondents other than their time. The total estimated annualized burden hours are 168.

Estimated Annualized Burden Hours
Type of respondents | Form name | Number of respondents | Number of responses per respondent | Average burden per response (in hr)
Private Sector Organizations | Worksheet for Identifying Site Visit Interviews | 7 | 1 | 1
| Worksheet for Scheduling Site Visit Interviews | 7 | 1 | 2
| IDI Guide for Program Directors/Principal Investigators | 7 | 1 | 2
| IDI Guide for Program Managers | 7 | 1 | 1
| IDI Guide for Program Staff Members | 35 | 1 | 1
| IDI Guide for Program Partners | 21 | 1 | 1
State, Local, and Tribal Government Organizations | Worksheet for Identifying Site Visit Interviews. | 5 | 1 | 1
| Worksheet for Scheduling Site Visit Interviews | 5 | 1 | 2
| IDI Guide for Program Directors/Principal Investigators | 5 | 1 | 2
| IDI Guide for Program Managers | 5 | 1 | 1
| IDI Guide for Program Staff Members | 25 | 1 | 1
| IDI Guide for Program Partners | 15 | 1 | 1

Leroy A. Richardson,
Chief, Information Collection Review Office, Office of Scientific Integrity, Office of the Associate Director for Science, Office of the Director, Centers for Disease Control and Prevention.

[FR Doc. 2014-03176 Filed 2-12-14; 8:45 am]

BILLING CODE 4163-18-P